DEPARTMENT OF ENERGY

Federal Energy Regulatory Commission

Combined Notice of Filings #1

Take notice that the Commission received the following electric corporate filings:

Docket Numbers: EC23-106-000.

Applicants: GenOn Bowline, LLC.

Description: Application for Authorization Under Section 203 of the Federal Power Act of GenOn Bowline, LLC.

Filed Date: 7/13/23.

Accession Number: 20230713-5178.

Comment Date: 5 p.m. ET 8/3/23.

Take notice that the Commission received the following exempt wholesale generator filings:

Docket Numbers: EG23-226-000.

Applicants: Strauss Wind, LLC.

Description: Strauss Wind, LLC submits Notice of Self-Certification of Exempt Wholesale Generator Status.

Filed Date: 7/14/23.

Accession Number: 20230714-5000.

Comment Date: 5 p.m. ET 8/4/23.

Docket Numbers: EG23-227-000.

Applicants: Arica Solar, LLC.

Description: Arica Solar, LLC submits Notice of Self-Certification of Exempt Wholesale Generator Status.

Filed Date: 7/14/23.

Accession Number: 20230714-5121.

Comment Date: 5 p.m. ET 8/4/23.

Docket Numbers: EG23-228-000.

Applicants: Redonda PV LLC.

Description: Redonda PV LLC submits Notice of Self-Certification of Exempt Wholesale Generator Status.

Filed Date: 7/14/23.

Accession Number: 20230714-5122.

Comment Date: 5 p.m. ET 8/4/23.

Docket Numbers: EG23-229-000.

Applicants: Victory Pass I, LLC.

Description: Victory Pass I, LLC submits Notice of Self-Certification of Exempt Wholesale Generator Status.

Filed Date: 7/14/23.

Accession Number: 20230714-5124.

Comment Date: 5 p.m. ET 8/4/23.

Take notice that the Commission received the following electric rate filings:

Docket Numbers: ER19-467-009.

Applicants: New York Independent System Operator, Inc.

Description: Compliance filing: NYISO Amendment to October 20, 2022 Cmplnc re: Technical Corrections to eTariff to be effective 9/8/2020.

Filed Date: 7/14/23.

Accession Number: 20230714-5109.

Comment Date: 5 p.m. ET 8/4/23.

Docket Numbers: ER21-9-004; ER21-86-004; ER21-88-004.

Applicants: Orange County Energy Storage 3 LLC, Orange County Energy Storage 2 LLC, Henrietta D Energy Storage LLC.

Description: Notice of Non-Material Change in Status of Henrietta D Energy Storage LLC, et al.

Filed Date: 7/13/23.

Accession Number: 20230713-5166.

Comment Date: 5 p.m. ET 8/3/23.

Docket Numbers: ER22-1748-002; ER22-1744-002; ER22-1751-002; ER15-1972-001; ER22-69-003; ER22-1745-002.

Applicants: Indeck-Olean Limited Partnership, Indeck Niles, LLC, Indeck Corinth Limited Partnership, Indeck-Yerkes Limited Partnership, Indeck Energy Services of Silver Springs, Inc., Indeck-Oswego Limited Partnership.

Description: Triennial Market Power Analysis for Northeast Region of Indeck Corinth Limited Partnership, et al.

Filed Date: 7/13/23.

Accession Number: 20230713-5174.

Comment Date: 5 p.m. ET 9/11/23.

Docket Numbers: ER22-2356-001.

Applicants: Public Service Company of Colorado.

Description: Compliance filing: 2023-07-14—Att S—Order 881 Compliance Filing to be effective 7/12/2025.

Filed Date: 7/14/23.

Accession Number: 20230714-5148.

Comment Date: 5 p.m. ET 8/4/23.

Docket Numbers: ER23-2391-000.

Applicants: Public Service Company of New Mexico.

Description: § 205(d) Rate Filing: PNM CAISO Phase 2 Enhancements to be effective 7/1/2023.

Filed Date: 7/14/23.

Accession Number: 20230714-5021.

Comment Date: 5 p.m. ET 8/4/23.

Docket Numbers: ER23-2392-000.

Applicants: PJM Interconnection, L.L.C.

Description: § 205(d) Rate Filing: Original WMPA, SA No. 6980; Queue No. AF2-060 to be effective 9/13/2023.

Filed Date: 7/14/23.

Accession Number: 20230714-5031.

Comment Date: 5 p.m. ET 8/4/23.

Docket Numbers: ER23-2393-000.

Applicants: PJM Interconnection, L.L.C.

Description: § 205(d) Rate Filing: Original WMPA, Service Agreement No. 7006; Queue No. AF2-221 to be effective 9/13/2023.

Filed Date: 7/14/23.

Accession Number: 20230714-5049.

Comment Date: 5 p.m. ET 8/4/23.

Docket Numbers: ER23-2394-000.

Applicants: Alabama Power Company, Georgia Power Company, Mississippi Power Company.

Description: Tariff Amendment: Alabama Power Company submits tariff filing per 35.15: Chilatchee 44 LGIA Termination Filing to be effective 7/14/2023.

Filed Date: 7/14/23.

Accession Number: 20230714-5065.

Comment Date: 5 p.m. ET 8/4/23.

Docket Numbers: ER23-2395-000.

Applicants: Victory Pass I, LLC.

Description: Baseline eTariff Filing: Second Amended and Restated Shared Facilities Common Ownership Agreement to be effective 9/15/2023.

Filed Date: 7/14/23.

Accession Number: 20230714-5066.

Comment Date: 5 p.m. ET 8/4/23.

Docket Numbers: ER23-2396-000.

Applicants: Alabama Power Company, Georgia Power Company, Mississippi Power Company.

Description: Tariff Amendment: Alabama Power Company submits tariff filing per 35.15: Chilatchee 115A LGIA Termination Filing to be effective 7/14/2023.

Filed Date: 7/14/23.

Accession Number: 20230714-5067.

Comment Date: 5 p.m. ET 8/4/23.

Docket Numbers: ER23-2397-000.

Applicants: Alabama Power Company, Georgia Power Company, Mississippi Power Company.

Description: Tariff Amendment: Alabama Power Company submits tariff filing per 35.15: Chilatchee 115B LGIA Termination Filing to be effective 7/14/2023.

Filed Date: 7/14/23.

Accession Number: 20230714-5070.

Comment Date: 5 p.m. ET 8/4/23.

Docket Numbers: ER23-2398-000.

Applicants: Arizona Public Service Company.

Description: § 205(d) Rate Filing: Interconnection Reforms—First Ready, First Served to be effective 9/30/2023.

Filed Date: 7/14/23.

Accession Number: 20230714-5079.

Comment Date: 5 p.m. ET 8/4/23.

Docket Numbers: ER23-2399-000.

Applicants: Arica Solar, LLC.

Description: Baseline eTariff Filing: Certificate of Concurrence to be effective 9/15/2023.

Filed Date: 7/14/23.

Accession Number: 20230714-5129.

Comment Date: 5 p.m. ET 8/4/23.

Docket Numbers: ER23-2400-000.

Applicants: Redonda PV LLC.

Description: Baseline eTariff Filing: Certificate of Concurrence to be effective 9/15/2023.

Filed Date: 7/14/23.

Accession Number: 20230714-5144.

Comment Date: 5 p.m. ET 8/4/23.

Docket Numbers: ER23-2401-000.

Applicants: Entergy Texas, Inc.

Description: § 205(d) Rate Filing: Umbriel Solar LBA Agreement to be effective 7/14/2023.

Filed Date: 7/14/23.

Accession Number: 20230714-5145.

Comment Date: 5 p.m. ET 8/4/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: July 14, 2023..
Debbie-Anne A. Reese,
Deputy Secretary.

[FR Doc. 2023-15430 Filed 7-19-23; 8:45 am]

BILLING CODE 6717-01-P